DEPARTMENT OF COMMERCE

National Oceanic and Atmospheric Administration

RIN 0648-XF886

South Atlantic Fishery Management Council; Public Meetings

AGENCY: National Marine Fisheries Service (NMFS), National Oceanic and Atmospheric Administration (NOAA), Commerce.

ACTION: Notice of public scoping meetings.

SUMMARY: The South Atlantic Fishery Management Council (Council) will hold a series of public scoping meetings via webinar pertaining to Amendment 13 to the Spiny Lobster Fishery Management Plan (FMP) for the Gulf of Mexico and Atlantic Region. The amendment addresses alternatives for bully net regulations and enhanced cooperative management.

DATES: The scoping meetings will be held via webinar on January 8 and January 9, 2018.

ADDRESSES: Council address: South Atlantic Fishery Management Council, 4055 Faber Place Drive, Suite 201, N. Charleston, SC 29405.

FOR FURTHER INFORMATION CONTACT: Kim Iverson, Public Information Officer, SAFMC; phone (843) 571-4366 or toll free (866) SAFMC-10; fax: (843) 769-4520; email: kim.iverson@safmc.net.

SUPPLEMENTARY INFORMATION: The scoping meetings will be conducted via webinar accessible via the internet from the Council's website at www.safmc.net. The scoping meetings will begin at 6 p.m. Registration for the webinars is required. Registration information will be posted on the Council's website at www.safmc.net as it becomes available.

Amendment 13 to the Spiny Lobster Fishery Management Plan

The draft amendment currently addresses inconsistencies between State of Florida spiny lobster regulations and those in federal waters including options for endorsement, marking, and gear prohibitions for bully net gear in the exclusive economic zone (EEZ) off Florida. The amendment also addresses re-establishing the procedure for enhanced cooperative management protocol for roles of federal and State of Florida agencies for the management of spiny lobster. Additional options to address bag limits on board commercial bully netters and divers, degradable panels in lobster traps, and the definition of artificial habitat are also included. The measures are expected to help management and enforcement of spiny lobster harvest by creating consistent regulations in state and federal waters.

During the scoping meetings, Council staff will present an overview of the amendment and will be available for informal discussions and to answer questions via webinar. Members of the public will have an opportunity to go on record to record their comments for consideration by the Council.

Special Accommodations

These meetings are physically accessible to people with disabilities. Requests for auxiliary aids should be directed to the Council office (see ADDRESSES) 3 days prior to the meeting.

Note: The times and sequence specified in this agenda are subject to change.

Authority: 16 U.S.C. 1801 et seq.

Dated: December 14, 2017.
Tracey L. Thompson,
Acting Deputy Director, Office of Sustainable Fisheries, National Marine Fisheries Service.

[FR Doc. 2017-27292 Filed 12-18-17; 8:45 am]

BILLING CODE 3510-22-P